FEDERAL MARITIME COMMISSION

Ocean Transportation Intermediary License; Rescission of Order of Revocation

Notice is hereby given that the Orders revoking the following licenses are being rescinded by the Federal Maritime Commission pursuant to sections 14 and 19 of the Shipping Act of 1984 (46 U.S.C. app. 1718) and the regulations of the Commission pertaining to the licensing of Ocean Transportation Intermediaries, 46 CFR part 515.

License Number: 000791F.

Name: SIG M. Glukstad, Inc. dba Miami International Forwarder dba MIF.

Address: 1801 NW 82nd Avenue, Miami, FL 33126.

Order Published: FR: 12/22/04 (Volume 69, No. 245, Pg. 76766).

License Number: 004175NF.

Name: Silken Fortress Corporation dba Transcargo International.

Address: 5858 S. Holmes Avenue, Los Angeles, CA 90001.

Order Published: FR: 12/22/04 (Volume 69, No. 245, Pg. 76766).

License Number: 004108NF.

Name: DRT International, Incorporated.

Address: 7762 NW 72nd Avenue, Medley, FL 33166.

Order Published: FR: 11/12/04 (Volume 69, No. 218, Pg. 65432).

Sandra L. Kusumoto,
Director, Bureau of Certification and Licensing.

[FR Doc. 05-645 Filed 1-11-05; 8:45 am]

BILLING CODE 6730-01-P